FEDERAL MARITIME COMMISSION

Ocean Transportation Intermediary License Reissuances

The Commission gives notice that the following Ocean Transportation Intermediary licenses have been reissued pursuant to section 19 of the Shipping Act of 1984 (46 U.S.C. 40101).

License No.: 016959N.

Name: Francis Mendez Alvarez dba Servicios Hondurenos.

Address: 1200 Labco Street, Houston, TX 77029.

Date Reissued: July 13, 2013.

License No.: 017531F.

Name: New York Logistic Services, Inc.

Address: 1308 Merrywood Drive, Edison, NJ 08817.

Date Reissued: July 16, 2013.

License No.: 018392N.

Name: Broom U.S.A., Inc. dba Transcontinental Logistics Neutral 3 PL.

Address: 2293 NW. 82nd Avenue, Doral, FL 33122.

Date Reissued: June 17, 2013.

License No.: 018461N.

Name: Select Aircargo Services, Inc. dba PAC International Logistics Company.

Address: 12801 South Figueroa Street, Los Angeles, CA 90061.

Date Reissued: July 10, 2013.

License No.: 019364N.

Name: New Life Health Care Services, LLC dba New Life Marine Services.

Address: 3527 Brackenfern Road, Katy, TX 77449.

Date Reissued: June 09, 2013.

License No.: 023062F.

Name: A & M Ocean Machinery, Inc.

Address: 9725 Fontainebleau Blvd., Suite 103, Miami, FL 33172.

Date Reissued: July 04, 2013.

James A. Nussbaumer,
Deputy Director, Bureau of Certification and Licensing.

[FR Doc. 2013-21039 Filed 8-28-13; 8:45 am]

BILLING CODE 6730-01-P